DEPARTMENT OF COMMERCE

Foreign-Trade Zones Board

[B-03-2015]

Foreign-Trade Zone (FTZ) 84—Houston, Texas; Authorization of Production Activity MHI Compressor International Corporation (Gas Compressors, Compressor Sets, Electrical Generators and Generating Sets), Pearland, Texas

On January 12, 2015, MHI Compressor International Corporation submitted a notification of proposed production activity to the FTZ Board for its facility within FTZ 84—Site 37, in Pearland, Texas.

The notification was processed in accordance with the regulations of the FTZ Board (15 CFR part 400), including notice in the Federal Register inviting public comment (80 FR 4868, January 29, 2015). The FTZ Board has determined that no further review of the activity is warranted at this time. The production activity described in the notification is authorized, subject to the FTZ Act and the Board's regulations, including Section 400.14.

Dated: May 12, 2015.
Andrew McGilvray,
Executive Secretary.

[FR Doc. 2015-11843 Filed 5-14-15; 8:45 am]

BILLING CODE 3510-DS-P